DEPARTMENT OF THE INTERIOR

Bureau of Land Management

[UT-040-07-1430-ES; UTU-82068, UTU-82980]

Notice of Realty Action:

Recreation and Public Purposes Act Classification of Public Lands in Iron County, UT; Correction

AGENCY: Bureau of Land Management, Interior.

ACTION: Notice of realty action; correction.

SUMMARY: The Bureau of Land Management published a document in the Federal Register of June 25, 2007, concerning a Recreation and Public Purposes Act classification of public lands located in Iron County, Utah. The document contained an inaccurate legal description for Township 38 South, Range 12 West contained in the SUPPLEMENTARY INFORMATION.

FOR FURTHER INFORMATION CONTACT: Robert C. Wilson, Realty Specialist at (435) 865-3005 or via e-mail at: rob_wilson@blm.gov.

SUPPLEMENTARY INFORMATION:

Corrections

1. Correct the section to be “3” from “34”.

T. 38 S., R12 W.

Sec. 3, lot 12, containing 2.47 acres. Correction.

2. Correct the section to be “3” from “34”.

T. 38 S., R12 W.

Sec. 3, lot 13, (portion), containing 7.53 acres. Correction.

Dated: July 3, 2007.
Randy Trujillo,
Associate Field Office Manager (UT-040).

[FR Doc. E7-13370 Filed 7-9-07; 8:45 am]

BILLING CODE 4310-DQ-P